DEPARTMENT OF COMMERCE

National Oceanic and Atmospheric Administration

50 CFR Part 660

[I.D.051403C]

RIN 0648-AQ68

Fisheries off West Coast States and in the Western Pacific; Pacific Coast Groundfish Fishery; Amendment 17

AGENCY: National Marine Fisheries Service (NMFS), National Oceanic and Atmospheric Administration (NOAA), Commerce.

ACTION: Notice of availability of an amendment to a fishery management plan; request for comments.

SUMMARY: NMFS announces that the Pacific Fishery Management Council (Council) has submitted Amendment 17 to the Pacific Coast Groundfish Fishery Management Plan (FMP) for Secretarial review. Amendment 17 would revise the Council's annual groundfish management process so that it would become a biennial process with a NMFS public notice and comment period prior to implementation of the biennial specifications and management measures. Amendment 17 is intended to ensure that the specifications and management measures process comports with a Court ruling to make the Council's development process for specifications and management measures more efficient, and to streamline the NMFS regulatory process for implementing the specifications and management measures.

DATES: Comments on Amendment 17 must be received on or before July 21, 2003.

ADDRESSES: Comments on Amendment 17 or supporting documents should be sent to D. Robert Lohn, Administrator, Northwest Region, NMFS, Sand Point Way NE., BIN C15700, Seattle, WA 98115-0070; or to Rodney McInnis, Acting Administrator, Southwest Region, NMFS, 501 West Ocean Boulevard, Suite 4200, Long Beach, CA 90802-4213.

Copies of Amendment 17 and the Environmental Assessment/ Regulatory Impact Review (EA/RIR) are available from Donald McIsaac, Executive Director, Pacific Fishery Management Council, 2130 SW Fifth Ave., Suite 224, Portland, OR 97201.

FOR FURTHER INFORMATION CONTACT: Yvonne deReynier (Northwest Region, NMFS), phone: 206-526-6140; fax: 206-526-6736 and; e-mail: yvonne.dereynier@noaa.gov.

SUPPLEMENTARY INFORMATION:

Electronic Access

This Federal Register document is also accessible via the Internet at the Web site of the Office of the Federal Register's Web site at: http://www/access/gpo.gov/su_docs/aces140.html.

The Magnuson-Stevens Fishery Conservation and Management Act (Magnuson-Stevens Act) requires each regional fishery management council to submit fishery management plans or plan amendments to NMFS for review and approval, disapproval, or partial approval. The Magnuson-Stevens Act also requires NMFS, immediately upon receiving a fishery management plan or amendment, to publish notification in the Federal Register that the fishery management plan or plan amendment is available for public review and comment. At the end of the comment period, NMFS considers the public comments received during the comment period described above in determining whether to approve, partially approve, or disapprove the fishery management plan or plan amendment.

Amendment 17 is administrative in nature and is intended to revise Council and NMFS processes associated with the specifications and management measures. This annual process establishes harvest “specifications,” which are harvest levels or limits such as acceptable biological catches, optimum yields, or allocations for different user groups. Management measures, such as trip limits, closed times and areas, and gear restrictions are also set in the annual regulatory process. Since 1990, in order to use the most recent scientific information possible, the Council has annually developed its recommendations for specifications and management measures in a two-meeting process (usually its September and November meetings) followed by a NMFS final action published in the Federal Register and made available for public comment after the effective date of the action. In 2001, NMFS was challenged on this process in Natural Resources Defense Council, Inc. v. Evans, 168 F.Supp. 2d 1149 (N.D. Cal. 2001) and the Court ordered NMFS to provide prior public notice and allow public comment on the annual specifications. Amendment 17 would amend the FMP's framework for developing annual specifications and management measures to include time for NMFS to publish a proposed rule for the specifications and management measures, followed by a final rule.

In addition to needing to revise the notice and comment procedure associated with the specifications and management measures, the Council wished to take a new look at efficiency in the annual management process. Groundfish management workload levels have grown in recent years, particularly those associated with setting annual harvest levels for both depleted and healthy stocks. Because of the increasing workload associated with developing specifications and management measures, the Council and NMFS have had less time for addressing many other important groundfish fishery management issues. NMFS has recently asked all of the fishery management councils to consider how they might streamline their processes for developing regulatory recommendations. Amendment 17 responds to this request by setting the specifications and management measures process for biennial, rather than annual, development and implementation.

Public comments on Amendment 17 must be received by July 21, 2003, to be considered by NMFS in the decision whether to approve, disapprove, or partially approve Amendment 17. A proposed rule to implement Amendment 17 has been submitted for Secretarial review and approval. NMFS expects to publish and request public comment on proposed regulations to implement Amendment 17 in the near future.

Authority: 16 U.S.C. 1801 et seq.

Dated: May 16, 2003.
Bruce C. Morehead,
Acting Director, Office of Sustainable Fisheries, National Marine Fisheries Service.

[FR Doc. 03-12885 Filed 5-21-03; 8:45 am]

BILLING CODE 3510-22-S